DEPARTMENT OF STATE

[Public Notice 8043]

30-Day Notice of Proposed Information Collection: Request for Entry Into Children's Passport Issuance Alert Program

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to October 29, 2012.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek A. Rivers, Bureau of Consular Affairs, Overseas Citizens Services (CA/OCS/L), U.S. Department of State, SA-29, 4th Floor, Washington, DC 20520 or at CA-OCS-L@state.gov.

SUPPLEMENTARY INFORMATION:

• Title of Information Collection: Request for Entry into Children's Passport Issuance Alert Program.

• OMB Control Number: 1405-0169.

• Type of Request: Extension.

• Originating Office: CA/OCS/L.

• Form Number: DS-3077.

• Respondents: Concerned parents or their agents, institutions, or courts.

• Estimated Number of Respondents: 8,000.

• Estimated Number of Responses: 8,000.

• Average Hours per Response: 30 minutes.

• Total Estimated Burden: 4,000 hrs.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The information requested will be used to support entry of the name of a minor (an unmarried person under 18) into the Children's Passport Issuance Alert Program (CPIAP). CPIAP provides a mechanism for parents or other persons with legal custody of a minor to obtain information regarding whether the Department has received a passport application for the minor. This program was developed as a means to prevent international abduction of a minor or to help prevent other travel of a minor without the consent of a parent or legal guardian. If a minor's name and other identifying information has been entered into the CPIAP, when the Department receives an application for a new, replacement, or renewed passport for the minor, the application will be placed on hold for up to 60 days and the Office of Children's Issues will attempt to notify the requestor of receipt of the application. Form DS-3077 will be primarily submitted by a parent or legal guardian of a minor.

Methodology: The completed form DS-3077 can be downloaded and filled out online or printed out from the computer and manually completed. The form must be manually signed and submitted to the Office of Children's Issues by mail, or by fax.

Dated: September 11, 2012.
Michelle Bernier-Toth,
Managing Director, Bureau of Consular Affairs, Overseas Citizen Services, Department of State.

[FR Doc. 2012-23949 Filed 9-27-12; 8:45 am]

BILLING CODE 4710-06-P